DEPARTMENT OF HEALTH AND HUMAN SERVICES

Indian Health Service

Public Health Nursing Case Management: Reducing Sexually Transmitted Infections

Announcement Type: New.

Funding Announcement Number: HHS-2022-IHS-PHN-0001.

Assistance Listing (Catalog of Federal Domestic Assistance or CFDA) Number: 93.383.

Key Dates

Application Deadline Date: August 11, 2022.

Earliest Anticipated Start Date: September 26, 2022.

I. Funding Opportunity Description

Statutory Authority

The Indian Health Service (IHS) is accepting applications for a cooperative agreement for Public Health Nursing Case Management: Reducing Sexually Transmitted Infections. This program is authorized under the Snyder Act, 25 U.S.C. 13; the Transfer Act, 42 U.S.C. 2001(a); and the Indian Health Care Improvement Act, 25 U.S.C. 1621q, 1660e. This program is described in the Assistance Listings located at https://sam.gov/content/home (formerly known as the CFDA) under 93.383.

Background

The IHS Public Health Nursing (PHN) program is a community health nursing program that focuses on the goals of promoting health and quality of life, and preventing disease and disability. The PHN program provides quality, culturally sensitive health promotion and disease prevention nursing care services through primary, secondary, and tertiary prevention services to individuals, families, and community groups. Program funds provide critical support for direct health care services in the community, which improve Americans' access to health care. The PHN program supports population-focused services to promote healthier communities through community based nursing services, community development, and health promotion and/or disease prevention activities. The PHN program promotes the establishment of program plans based on community assessments and evaluations to prevent disease, promote health, and implement community based programs. There is an emphasis on screening, home visits, immunizations, maternal-child health care, elder care, chronic disease, school services, health promotion and disease prevention, case management, population based services, and community disease surveillance. The PHN program is available to support transitions of care from the clinical setting into the community with an emphasis on the clinical, preventive, and public health needs of American Indian/Alaska Native (AI/AN) communities.

PHN patient care coordination activities aim to serve the patient and family in the home and in the community. Preventive health care informs populations, promotes healthy lifestyles, and provides early treatment for illnesses. The PHN's expertise in communicable disease assessment, outreach, investigation, and surveillance aids in the management and prevention of the spread of communicable diseases. PHNs conduct nurse home visiting services via referral for communicable disease investigation and treatment, which includes such services as health education/behavioral counseling for health promotion, risk reduction, and immunizations to prevent illnesses with a goal to detect and treat problems in their early stages. The PHN's unique scope of service supports the goal of decreasing sexually transmitted diseases.

Purpose

The purpose of this IHS program is to mitigate the prevalence of sexually transmitted infections (STI) within Indian Country through a case management model that utilizes the PHN as a case manager. The emphasis is on raising awareness of STIs as a high-priority health issue among AI/AN communities and to support prevention and control activities of comorbid conditions. Case management involves the client, family, and other members of the health care team. Quality of care, continuity, and assurance of appropriate and timely interventions are also crucial. In addition to reducing the cost of health care, case management has proven its worth in terms of improving rehabilitation, improving quality of life, and increasing client satisfaction and compliance by promoting client self-determination. The goals and outcomes of the PHN case management model are early detection, diagnosis, treatment, and evaluation that will improve health outcomes in a cost effective manner. This model uses all prevention components of primary, secondary, and tertiary prevention in the home and community with patient and family.

The PHN Case Management program supports raising awareness of rising STI rates, increasing access to care, strengthening surveillance, and decreasing serious health consequences of undiagnosed STIs. This also supports timely linkage to care in follow-up and treatment to reduce the spread of STIs. The IHS goal is to support and strengthen surveillance systems to monitor STI trends, promote awareness, and identify effective interventions for reducing morbidity and improving outbreak response efforts. Currently, AI/AN men and women are disproportionately affected by STIs compared to other populations within the United States. Chlamydia and gonorrhea rates are four to five times higher in AI/AN populations than non-Hispanic whites. Syphilis and human immunodeficiency virus (HIV) also have disproportionately higher impact on AI/AN people. In 2019, AI/AN women had the highest syphilis rate at seven times the rate among non-Hispanic white females. Effective diagnosis, management, and prevention of STIs requires a combination of clinical and public health activities.

Required, Optional, and Allowable Activities

The community based case management model addresses the PHN scope of practice of working with individuals and families in a population-based practice. The project will be applied in a phased approach, using the nursing process—assessment, planning, implementation, and evaluation.

First Phase: Assessment—Complete a community assessment within the first six months after the project start date (most PHN programs have this readily available as a part of their annual program plans). Include, if available, data from local community assessments and STI data in the assessment. In addition, obtain input from key stake-holders such as community members, Tribal leaders, health care administration, local social hygiene staff as subject matter experts, and community health groups to determine the STI health care priorities. Obtain approval for the establishment of the PHN case management program from health care administration, governing boards, and medical executive committees as needed.

Second Phase: Planning—Based on the community assessment, the population of need related to STIs is identified and the planning of the case management project begins. Develop case management services no later than 10 months after the project start date, which addresses the priority STIs identified from the community assessment. Collaborate with local social hygiene and health care programs on planning in this phase. Plan specific guidelines for the case management services of the high-risk group of patients such as admission criteria, caseload size, policies and procedures, electronic health record reminders for providers and patients, and an evaluation plan to include data tracking for outcomes generated. Establish short and long term program goals. Identify if there is a best practice case management model available to replicate to target the identified high risk population. Obtain additional staff training needed for the community based nurse case management model such as evidence based practices, motivational interviewing, nurse competencies, quality improvement, and any other educational training that would be applicable to the health issues identified in the case management model. Identify or develop patient education materials and community education materials for the program. Develop plans for project sustainability.

Third Phase: Implementation—The case management program includes admission criteria of the high risk population, caseload size, and appropriate health care standards. Establish patient caseload no later than 12 months after the project start date. Monitor progress and make adjustments as needed. Track patient data outcomes. Continue to plan ongoing sustainability of the program after the period of performance ends.

Fourth Phase: Patient Satisfaction—In order to evaluate program services, initiate a patient satisfaction program no later than the start of the second year of the period of performance, such as one that provides patients with an opportunity to provide feedback on their experiences to assess the satisfaction of the services. Analyze findings so a concentrated effort is made to relate the customer satisfaction results to internal process metrics, and examine trends over time in order to take action on a timely basis. Evaluate and revise the case management program if needed, review policies and procedures, education materials, and staff competencies semi-annually. To the extent permitted by law, report back to key stake-holders progress of the project, especially to inform clients about changes brought about as a direct result of listening to their needs. Each site will share program material with the IHS Headquarters PHN program. This information will be shared IHS-wide for replication of the project across the IHS with credit given to the organization that developed the material. Poster or oral presentation will be given at national meetings and/or webinars.

II. Award Information

Funding Instrument—Cooperative Agreement

Estimated Funds Available

The total funding identified for fiscal year (FY) 2022 is approximately $1,500,000. Individual award amounts for the first budget year are anticipated to be between $145,000 and $150,000. The funding available for competing and subsequent continuation awards issued under this announcement is subject to the availability of appropriations and budgetary priorities of the Agency. The IHS is under no obligation to make awards that are selected for funding under this announcement.

Anticipated Number of Awards

Approximately 10 awards will be issued under this program announcement.

Period of Performance

The period of performance is 5 years.

Cooperative Agreement

Cooperative agreements awarded by the Department of Health and Human Services (HHS) are administered under the same policies as grants. However, the funding agency, IHS, is anticipated to have substantial programmatic involvement in the project during the entire period of performance. Below is a detailed description of the level of involvement required of the IHS.

Substantial Agency Involvement Description for Cooperative Agreement

Provide funded organizations with ongoing consultation and technical assistance to plan, implement, and evaluate each component of the comprehensive program as described under Recipient Activities below. Consultation and technical assistance will include, but not be limited to, the following areas:

1. Interpretation of current literature related to epidemiology, statistics, surveillance, Healthy People 2030 Objectives, the Goals of the IHS National STD program, Centers for Disease Control and Prevention Sexually Transmitted Infections Treatment Guidelines, 2021, Department of Health and Human Services STI Strategic Plan, and previous best practices of PHN Case Management recipient activities;

2. Identify sources for additional staff training for the community based case management model and additional training needed such as evidence based practices, motivational interviewing, performance improvement and any other training that would be applicable to the STI issues addressed in the case management program;

3. Design and implementation of program components (including, but not limited to, program implementation methods, recommendation of a community assessment tool, surveillance, analysis, development of programmatic evaluation, and coordination of activities);

4. Identify, if available, previously established program management plans of PHN Case Management best practices (to replicate from previous demonstration PHN program awards);

5. Conduct visits to assess program progress and mutually resolved problems, if travel funds are available; and,

6. Coordinate these activities with all IHS PHN activities on a national basis.

III. Eligibility Information

1. Eligibility

To be eligible for this funding opportunity an applicant must be one of the following as defined by 25 U.S.C. 1603:

• A federally recognized Indian Tribe as defined by 25 U.S.C. 1603(14). The term “Indian Tribe” means any Indian Tribe, band, nation, or other organized group or community, including any Alaska Native village or group, or regional or village corporation as defined in or established pursuant to the Alaska Native Claims Settlement Act (85 Stat. 688) [43 U.S.C. 1601 et seq.], which is recognized as eligible for the special programs and services provided by the United States to Indians because of their status as Indians.

• A Tribal organization as defined by 25 U.S.C. 1603(26). The term “Tribal organization” has the meaning given the term in section 4 of the Indian Self-Determination and Education Assistance Act (25 U.S.C. 5304(1)): “Tribal organization” means the recognized governing body of any Indian Tribe; any legally established organization of Indians which is controlled, sanctioned, or chartered by such governing body or which is democratically elected by the adult members of the Indian community to be served by such organization and which includes the maximum participation of Indians in all phases of its activities: Provided that, in any case where a contract is let or grant made to an organization to perform services benefiting more than one Indian Tribe, the approval of each such Indian Tribe shall be a prerequisite to the letting or making of such contract or grant. Applicant shall submit letters of support and/or Tribal Resolutions from the Tribes to be served.

• An Urban Indian organization, as defined by 25 U.S.C. 1603(29). The term “Urban Indian organization” means a nonprofit corporate body situated in an urban center, governed by an urban Indian controlled board of directors, and providing for the maximum participation of all interested Indian groups and individuals, which body is capable of legally cooperating with other public and private entities for the purpose of performing the activities described in 25 U.S.C. 1653(a). Applicants must provide proof of nonprofit status with the application, e.g., 501(c)(3).

The program office will notify any applicants deemed ineligible.

Note: Please refer to Section IV.2 (Application and Submission Information/Subsection 2, Content and Form of Application Submission) for additional proof of applicant status documents required, such as Tribal Resolutions, proof of nonprofit status, etc.

2. Cost Sharing or Matching

The IHS does not require matching funds or cost sharing for grants or cooperative agreements.

3. Other Requirements

Applications with budget requests that exceed the highest dollar amount outlined under Section II Award Information, Estimated Funds Available, or exceed the period of performance outlined under Section II Award Information, Period of Performance, are considered not responsive and will not be reviewed. The Division of Grants Management (DGM) will notify the applicant.

Additional Required Documentation

Tribal Resolution

The DGM must receive an official, signed Tribal Resolution prior to issuing a Notice of Award (NoA) to any Tribe or Tribal organization selected for funding. An applicant that is proposing a project affecting another Indian Tribe must include resolutions from all affected Tribes to be served. However, if an official signed Tribal Resolution cannot be submitted with the application prior to the application deadline date, a draft Tribal Resolution must be submitted with the application by the deadline date in order for the application to be considered complete and eligible for review. The draft Tribal Resolution is not in lieu of the required signed resolution but is acceptable until a signed resolution is received. If an application without a signed Tribal Resolution is selected for funding, the applicant will be contacted by the Grants Management Specialist (GMS) listed in this funding announcement and given 90 days to submit an official signed Tribal Resolution to the GMS. If the signed Tribal Resolution is not received within 90 days, the award will be forfeited.

Tribes organized with a governing structure other than a Tribal council may submit an equivalent document commensurate with their governing organization.

Proof of Nonprofit Status

Organizations claiming nonprofit status must submit a current copy of the 501(c)(3) Certificate with the application.

IV. Application and Submission Information

1. Obtaining Application Materials

The application package and detailed instructions for this announcement are available at https://www.Grants.gov.

Please direct questions regarding the application process to Mr. Paul Gettys at (301) 443-2114 or (301) 443-5204.

2. Content and Form Application Submission

Mandatory documents for all applicants include:

• Application forms:

1. SF-424, Application for Federal Assistance.

2. SF-424A, Budget Information—Non-Construction Programs.

3. SF-424B, Assurances—Non-Construction Programs.

4. Project Abstract Summary form.

• Project Narrative (not to exceed 10 pages). See Section IV.2.A, Project Narrative for instructions.

• Budget Narrative (not to exceed four pages). See Section IV.2.B, Budget Narrative for instructions.

• One-page Timeframe Chart.

• Tribal Resolution(s) as described in Section III, Eligibility (if applicable).

• 501(c)(3) Certificate as described in Section III, Eligibility (if applicable).

• Biographical sketches for all Key Personnel.

• Contractor/Consultant resumes or qualifications and scope of work.

• Disclosure of Lobbying Activities (SF-LLL), if applicant conducts reportable lobbying.

• Certification Regarding Lobbying (GG-Lobbying Form).

• Copy of current Negotiated Indirect Cost rate (IDC) agreement (required in order to receive IDC).

• Organizational Chart (optional).

• Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative

This narrative should be a separate document that is no more than 10 pages and must: (1) Have consecutively numbered pages; (2) use black font 12 points or larger (tables may be done in 10 point font); (3) be single-spaced; and (4) be formatted to fit standard letter paper (8½ x 11 inches). Do not combine this document with any others.

Be sure to succinctly answer all questions listed under the evaluation criteria (refer to Section V.1, Evaluation Criteria) and place all responses and required information in the correct section noted below or they will not be considered or scored. If the narrative exceeds the overall page limit, the application will be considered not responsive and will not be reviewed. The 10-page limit for the project narrative does not include the work plan, standard forms, Tribal Resolutions, budget, budget narratives, and/or other items. Page limits for each section within the project narrative are guidelines, not hard limits.

There are three parts to the project narrative: Part 1—Program Information; Part 2—Program Planning and Evaluation; and Part 3—Program Report. See below for additional details about what must be included in the narrative.

The page limits below are for each narrative and budget submitted.

Part 1: Program Information (Limit—4 Pages)

Section 1: Needs

Describe the Urban Program or Tribe's current social hygiene or STI program activities, how long it has been operating, and what programs or services are currently being provided. Describe how the applicant has determined it has the administrative infrastructure to support the activities to implement a Public Health Nursing Case Management Program and evaluate and sustain it. Explain previous planning activities the applicant has completed relevant to this or similar goals. Describe any internal relationships or collaborative relationships with social hygiene/STI subject matter experts to support this activity.

Part 2: Program Planning and Evaluation (Limit—4 Pages)

Section 1: Program Plans

Describe fully and clearly the direction the applicant plans to take in the PHN Case Management Program, including plans to demonstrate improved sexual health outcomes of the identified group of patients and services to the community it serves. Include proposed timelines.

Section 2: Program Evaluation

Describe fully and clearly the improvements that will be made by the applicant to manage the PHN Case Management Program and identify the anticipated or expected benefits for the Tribe and AI/AN people served.

Part 3: Program Report (Limit—2 Pages)

Section 1: Identify and describe significant program achievements associated with the delivery of quality health care services in the past 24 months as a part of implementing previous grant awards, cooperative agreements, or other related activities. Provide a comparison of the actual accomplishments to the goals established for the period of performance or, if applicable, provide justification for the lack of progress.

B. Budget Narrative (Limit—4 Pages)

Provide a budget narrative that explains the amounts requested for each line item of the budget from the SF-424A (Budget Information for Non-Construction Programs). The applicant can submit with the budget narrative a more detailed spreadsheet than is provided by the SF-424A (the spreadsheet will not be considered part of the budget narrative). The budget narrative should specifically describe how each item will support the achievement of proposed objectives. Be very careful about showing how each item in the “Other” category is justified. For subsequent budget years (see Multi-Year Project Requirements in Section V.1, Application Review Information, Evaluation Criteria), the narrative should highlight the changes from the first year or clearly indicate that there are no substantive budget changes during the period of performance. Do NOT use the budget narrative to expand the project narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys (Paul.Gettys@ihs.gov), Deputy Director, DGM, by telephone at (301) 443-2114 or (301) 443-5204. Please be sure to contact Mr. Gettys at least ten days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are not allowable.

• The available funds are inclusive of direct and indirect costs.

• Only one cooperative agreement may be awarded per applicant.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. This contact must be initiated prior to the application due date or your waiver request will be denied. Prior approval must be requested and obtained from Mr. Paul Gettys, Deputy Director, DGM. You must send a written waiver request to GrantsPolicy@ihs.gov with a copy to Paul.Gettys@ihs.gov. The waiver request must be documented in writing (emails are acceptable) before submitting an application by some other method, and must include clear justification for the need to deviate from the required application submission process.

If the DGM approves your waiver request, you will receive a confirmation of approval email containing submission instructions. You must include a copy of the written approval with the application submitted to the DGM. Applications that do not include a copy of the signed waiver from the Deputy Director of the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, you will receive an automatic acknowledgment from Grants.gov that contains a Grants.gov tracking number. The IHS will not notify you that the application has been received.

System for Award Management (SAM)

Organizations that are not registered with SAM must access the SAM online registration through the SAM home page at https://sam.gov. United States (U.S.) organizations will also need to provide an Employer Identification Number from the Internal Revenue Service that may take an additional 2-5 weeks to become active. Please see SAM.gov for details on the registration process and timeline. Registration with the SAM is free of charge but can take several weeks to process. Applicants may register online at https://sam.gov.

Unique Entity Identifier

Your SAM.gov registration now includes a Unique Entity Identifier (UEI), generated by SAM.gov, which replaces the DUNS number obtained from Dun and Bradstreet. SAM.gov registration no longer requires a DUNS number.

Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS awardees to report information on sub-awards. Accordingly, all IHS awardees must notify potential first-tier sub-awardees that no entity may receive a first-tier sub-award unless the entity has provided its UEI number to the prime awardee organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include only the first year of activities; information for multi-year projects should be included as a separate document. See “Multi-year Project Requirements” at the end of this section for more information. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

A. Introduction and Need for Assistance (5 Points)

a. Provide demographic information, prevalence rates of sexually transmitted infections, and baseline data to support the case management for the high risk group of patients.

b. Describe how data collection will support the project objectives and how it will support the project evaluation in order to determine the impact of the project. Address how the proposed project will result in health improvements.

B. Project Objective(s), Work Plan, and Approach (35 Points)

a. Goals and Objectives (15 Points)

Identify two to three measurable objectives of the program that will demonstrate outcome. Goals/Objectives should be specific with a realistic timeline.

b. Methodology/Activities (20 Points)

Describe the activities that will be implemented in the program to meet the objectives. This work plan should be directly related to the objectives.

i. Describe how you will monitor the objectives (chart reviews, patient comments/feedback, data collection tools).

ii. Describe any collaborative efforts with other programs or the local social hygiene program.

C. Program Evaluation (20 Points)

Describe the methods for evaluating the project activities. Each proposed project objective should have an evaluation component and the evaluation activities should appear on the program plan. At a minimum, projects should describe plans to collect or summarize evaluation information about all project activities. Please address the following for each of the proposed objectives:

(1) Describe the community assessment results and what data will be selected to evaluate the success of the objective(s).

(2) Describe how the data and patient satisfaction information will be collected to assess the programs objective(s) (e.g., methods used such as, but not limited to, providing mechanisms for patients to provide feedback on their experiences).

(3) Identify when the data will be collected and the data analysis completed.

(4) Describe the extent to which there are specific datasets, databases, or registries already in place to measure/monitor meeting objective.

(5) Describe who will collect the data and any cost of the evaluation (whether internal or external).

(6) Describe where, when, and to whom the data will be presented (only to the extent permitted by law, the data to be reported back to key stake-holders on the progress of the project, especially to inform clients about changes brought about as a direct result of listening to their needs).

(7) Address anticipated obstacles to the success of the proposal such as underlying causes and the nature of their influence on accomplishing the objectives.

(8) Describe how the community assessment will be used to identify a high risk group of patients.

(9) Describe the process that will be used to follow-up on the PHN Case Management Project findings/conclusions.

D. Organizational Capabilities, Key Personnel, and Qualifications (25 Points)

This section outlines the broader capacity of the organization to complete the project outlined in the work plan. It includes the identification of personnel responsible for completing tasks and the chain of responsibility for successful completion of the project outlined in the work plan.

(1) Describe the organizational structure.

(2) Describe what equipment and facility space (i.e., office space) will be available for use during the proposed program. Include information about any equipment not currently available that will be purchased throughout the agreement.

(3) List key personnel who will work on the project.

i. Identify staffing plan, existing personnel, and new program staff to be hired.

ii. Include position descriptions and resumes for all key personnel. Position descriptions should clearly describe each position and duties indicating desired qualifications, experience, and requirements related to the proposed project and how they will be supervised.

iii. If the project requires additional personnel beyond those covered by the grant award (i.e., information technology support, volunteers, interviewers, etc.), note these and address how these positions will be filled and, if funds are required, the source of these funds.

iv. If personnel are to be only partially funded by this grant, indicate the percentage of time to be allocated to this project and identify the resources used to fund the remainder of the individual's salary.

(4) Capability.

i. Briefly describe the facility and user population.

ii. Describe the organization's ability to conduct this initiative through linkages to community resources: Partnerships established to provide referrals for additional services as needed for specialized treatment, care, and counseling services.

E. Categorical Budget and Budget Justification (15 Points)

Provide a clear estimate of the program costs and justification for expenses. The budget and budget justification should be consistent with the tasks identified in the work plan. The budget focus should be on developing and sustaining PHN case management services.

(1) Provide a budget narrative that serves as justification for all costs, explaining why each line item is necessary or relevant to the proposed project. Include sufficient details to facilitate the determination of allowable costs.

(2) Provide a succinct description of specific roles and activities of each person involved in the proposed project budget.

(3) If indirect costs are claimed, indicate and apply the current negotiated rate to the budget.

Multi-Year Project Requirements

Applications must include a brief project narrative and budget (one additional page per year) addressing the developmental plans for each additional year of the project. This attachment will not count as part of the project narrative or the budget narrative.

Additional documents can be uploaded as Other Attachments in Grants.gov.

These can include:

• Work plan, logic model, and/or time line for proposed objectives.

• Position descriptions for key staff.

• Resumes of key staff that reflect current duties.

• Consultant or contractor proposed scope of work and letter of commitment (if applicable).

• Current Indirect Cost Rate Agreement.

• Organizational chart.

• Map of area identifying project location(s).

• Additional documents to support narrative (i.e., data tables, key news articles, etc.).

2. Review and Selection

Each application will be prescreened for eligibility and completeness as outlined in the funding announcement. Applications that meet the eligibility criteria shall be reviewed for merit by the Objective Review Committee (ORC) based on evaluation criteria. Incomplete applications and applications that are not responsive to the administrative thresholds (budget limit, period of performance limit) will not be referred to the ORC and will not be funded. The program office will notify the applicant of this determination.

Applicants must address all program requirements and provide all required documentation.

3. Notifications of Disposition

All applicants will receive an Executive Summary Statement from the IHS Public Health Nursing program within 30 days of the conclusion of the ORC outlining the strengths and weaknesses of their application. The summary statement will be sent to the Authorizing Official identified on the face page (SF-424) of the application.

A. Award Notices for Funded Applications

The NoA is the authorizing document for which funds are dispersed to the approved entities and reflects the amount of Federal funds awarded, the purpose of the award, the terms and conditions of the award, the effective date of the award, the budget period, and period of performance. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence, other than the official NoA executed by an IHS grants management official announcing to the project director that an award has been made to their organization, is not an authorization to implement their program on behalf of the IHS.

VI. Award Administration Information

1. Administrative Requirements

Awards issued under this announcement are subject to, and are administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2020-title45-vol1/pdf/CFR-2020-title45-vol1-part75.pdf.

• Please review all HHS regulatory provisions for Termination at 45 CFR 75.372, at https://www.ecfr.gov/cgi-bin/retrieveECFR?gp&amp;SID=2970eec67399fab1413ede53d7895d99&amp;mc=true&amp;n=pt45.1.75&amp;r=PART&amp;ty=HTML&amp;se45.1.75_1372#se45.1.75_1372.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75 subpart E.

E. Audit Requirements:

• Uniform Administrative Requirements for HHS Awards, “Audit Requirements,” at 45 CFR part 75 subpart F.

F. As of August 13, 2020, 2 CFR 200 was updated to include a prohibition on certain telecommunications and video surveillance services or equipment. This prohibition is described in 2 CFR 200.216. This will also be described in the terms and conditions of every IHS grant and cooperative agreement awarded on or after August 13, 2020.

2. Indirect Costs

This section applies to all awardees that request reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Per 45 CFR 75.414(f) Indirect (F&A) costs, “any non-Federal entity (NFE) [i.e., applicant] that has never received a negotiated indirect cost rate, . . . may elect to charge a de minimis rate of 10 percent of modified total direct costs which may be used indefinitely. As described in Section 75.403, costs must be consistently charged as either indirect or direct costs, but may not be double charged or inconsistently charged as both. If chosen, this methodology once elected must be used consistently for all Federal awards until such time as the NFE chooses to negotiate for a rate, which the NFE may apply to do at any time.”

Electing to charge a de minimis rate of 10 percent only applies to applicants that have never received an approved negotiated indirect cost rate from HHS or another cognizant federal agency. Applicants awaiting approval of their indirect cost proposal may request the 10 percent de minimis rate. When the applicant chooses this method, costs included in the indirect cost pool must not be charged as direct costs to the grant.

Available funds are inclusive of direct and appropriate indirect costs. Approved indirect funds are awarded as part of the award amount, and no additional funds will be provided.

Generally, IDC rates for IHS recipients are negotiated with the Division of Cost Allocation at https://rates.psc.gov/ or the Department of the Interior (Interior Business Center) at https://ibc.doi.gov/ICS/tribal. For questions regarding the indirect cost policy, please call the Grants Management Specialist listed under “Agency Contacts” or the main DGM office at (301) 443-5204.

3. Reporting Requirements

The awardee must submit required reports consistent with the applicable deadlines. Failure to submit required reports within the time allowed may result in suspension or termination of an active grant, withholding of additional awards for the project, or other enforcement actions such as withholding of payments or converting to the reimbursement method of payment. Continued failure to submit required reports may result in the imposition of special award provisions and/or the non-funding or non-award of other eligible projects or activities. This requirement applies whether the delinquency is attributable to the failure of the awardee organization or the individual responsible for preparation of the reports. Per DGM policy, all reports must be submitted electronically by attaching them as a “Grant Note” in GrantSolutions. Personnel responsible for submitting reports will be required to obtain a login and password for GrantSolutions. Please see the Agency Contacts list in Section VII for the systems contact information.

The reporting requirements for this program are noted below.

A. Progress Reports

Program progress reports are required semi-annually. The progress reports are due within 30 days after the reporting period ends (specific dates will be listed in the NoA Terms and Conditions). These reports must include a brief comparison of actual accomplishments to the goals established for the period, a summary of progress to date or, if applicable, provide sound justification for the lack of progress, and other pertinent information as required. A final report must be submitted within 90 days of expiration of the period of performance.

B. Financial Reports

Federal Financial Reports are due 30 days after the end of each budget period, and a final report is due 90 days after the end of the period of performance.

Awardees are responsible and accountable for reporting accurate information on all required reports: The Progress Reports and the Federal Financial Report.

C. Data Collection and Reporting

The recipient must submit required reports consistent with the applicable deadlines. The recipient is required to identify two to three measurable objectives of the program to demonstrate and trend outcome. The objectives correspond to the work plan should be directly related to the targeted outcome. The recipient is to describe and report this information on a semi-annual timeline and in annual reports.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

E. Non-Discrimination Legal Requirements for Recipients of Federal Financial Assistance

Should you successfully compete for an award, recipients of Federal financial assistance (FFA) from HHS must administer their programs in compliance with Federal civil rights laws that prohibit discrimination on the basis of race, color, national origin, disability, age and, in some circumstances, religion, conscience, and sex (including gender identity, sexual orientation, and pregnancy). This includes ensuring programs are accessible to persons with limited English proficiency and persons with disabilities. The HHS Office for Civil Rights provides guidance on complying with civil rights laws enforced by HHS. Please see https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/civil-rights/for-individuals/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

F. Federal Awardee Performance and Integrity Information System (FAPIIS)

The IHS is required to review and consider any information about the applicant that is in the FAPIIS at https://www.fapiis.gov/fapiis/#/home, before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and recipients must disclose in writing, in a timely manner, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Paul Gettys, Deputy Director, 5600 Fishers Lane, Mail Stop: 09E70, Rockville, MD 20857 (Include “Mandatory Grant Disclosures” in subject line), Office: (301) 443-5204, Fax: (301) 594-0899, Email: Paul.Gettys@ihs.gov

AND

U.S. Department of Health and Human Services, Office of Inspector General, ATTN: Mandatory Grant Disclosures, Intake Coordinator, 330 Independence Avenue SW, Cohen Building, Room 5527, Washington, DC 20201, URL: https://oig.hhs.gov/fraud/report-fraud/ (Include “Mandatory Grant Disclosures” in subject line), Fax: (202) 205-0604 (Include “Mandatory Grant Disclosures” in subject line) or Email: MandatoryGranteeDisclosures@oig.hhs.gov

Failure to make required disclosures can result in any of the remedies described in 45 CFR 75.371 Remedies for noncompliance, including suspension or debarment (see 2 CFR parts 180 and 2 CFR part 376).

VII. Agency Contacts

1. Questions on the programmatic issues may be directed to: Ms. Jolene Tom, RN/BSN Project Officer, Indian Health Service, 5600 Fishers Lane, Mail Stop: 08N40C, Rockville, MD 20857, Phone: (301) 945-3215, Fax: (301) 594-6213, Email: jolene.tom@ihs.gov.

2. Questions on grants management and fiscal matters may be directed to: Sheila Miller, Grants Management Specialist, Indian Health Service, Division of Grants Management, 5600 Fishers Lane, Mail Stop: 09E70, Rockville, MD 20857, Phone: (240) 535-9308, Email: sheila.miller@ihs.gov.

3. Questions on systems matters may be directed to: Paul Gettys, Deputy Director, Division of Grants Management, Indian Health Service, Division of Grants Management, 5600 Fishers Lane, Mail Stop: 09E70, Rockville, MD 20857, Phone: (301) 443-2114; or the DGM main line (301) 443-5204, Email: Paul.Gettys@ihs.gov.

VIII. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Elizabeth A. Fowler,
Acting Director, Indian Health Service.

[FR Doc. 2022-10241 Filed 5-12-22; 8:45 am]

BILLING CODE 4165-16-P